NATIONAL FOUNDATION ON THE ARTS AND THE HUMANITIES

Privacy Act of 1974: Republication of Notice of Systems of Records

AGENCY: National Endowment for the Arts.

ACTION: Notice of republication of systems of records, proposed systems of records, and new routine uses.

SUMMARY: The National Endowment for the Arts (Endowment) is publishing a notice of its systems of records with descriptions of the systems and the ways in which they are maintained, as required by the Privacy Act of 1974, 5 U.S.C. 552a(e)(4). This notice reflects administrative changes that have been made at the Endowment since the last publication of a notice of its systems of records. This notice also will enable individuals who wish to access information maintained in Endowment systems to make accurate and specific requests for such information.

DATES: In accordance with 5 U.S.C. 552a(r), on July 17, 2000, the Endowment filed a report as to the changes proposed in this notice with the Committee on Government Reform of the House of Representatives; the Committee on Governmental Affairs of the Senate; and the Administrator, Office of Information and Regulatory Affairs, Office of Management and Budget (OMB). The proposed changes to the Endowment's systems of records will become effective 40 days from the date the report was submitted to Congress and the OMB, or 30 days from the date of this publication in the Federal Register, whichever is later.

ADDRESSES: Karen Elias; Deputy General Counsel; National Endowment for the Arts; 1100 Pennsylvania Avenue, NW; Room 518; Washington, DC 20506; telefax at (202) 682-5572 or by electronic mail at eliask@arts.endow.gov.

FOR FURTHER INFORMATION CONTACT: Karen Elias, (202) 682-5418

SUPPLEMENTARY INFORMATION: In accordance with 5 U.S.C. 552a(e)(4), the Endowment is today republishing a notice of the existence and character of its systems of records in order to make available in one place in the Federal Register the most up-to-date information regarding these systems. This republication has become necessary to reflect administrative changes, such as agency restructuring and the increased use of electronic technology, that have been made at the Endowment since the last publication of a notice of its systems of records.

Statement of General Routine Uses

The following general routine uses are incorporated by this reference into each system of records set forth herein, unless specifically limited in the system description.

1. A record may be disclosed as a routine use to a Member of Congress or his or her staff, when the Member of Congress or his or her staff requests the information on behalf of and at the request of the individual who is the subject of the record.

2. A record may be disclosed as a routine use to designated officers and employees of other agencies and departments of the Federal government having an interest in the subject individual for employment purposes (including the hiring or retention of any employee; the issuance of a security clearance; the letting of a contract; or the issuance of a license, grant, or other benefit by the requesting agency) to the extent that the information is relevant and necessary to the requesting agency's decision on the matter involved.

3. In the event that a record in a system of records maintained by the Endowment indicates, either by itself or in combination with other information in the Endowment's possession, a violation or potential violation of the law (whether civil, criminal, or regulatory in nature, and whether arising by statute or by regulation, rule, or order issued pursuant thereto), that record may be referred, as a routine use, to the appropriate agency, whether Federal, state, local, or foreign, charged with the responsibility of investigating or prosecuting such violation, or charged with enforcing or implementing the statute, rule, regulation, or order issued pursuant thereto. Such referral shall be deemed to authorize: (1) Any and all appropriate and necessary uses of such records in a court of law or before an administrative board or hearing; and (2) Such other interagency referrals as may be necessary to carry out the receiving agencies' assigned law enforcement duties.

4. The names, Social Security numbers, home addresses, dates of birth, dates of hire, quarterly earnings, employer identifying information, and State of hire of employees may be disclosed as a routine use to the Office of Child Support Enforcement, Administration for Children and Families, Department of Health and Human Services, as follows:

(a) For use in the Federal Parent Locator System (FPLS) and the Federal Tax Offset System for the purpose of locating individuals to establish paternity, establishing and modifying orders of child support, identifying sources of income, and for other child support enforcement actions as required by the Personal Responsibility and Work Opportunity Reconciliation Act of 1996 (Pub. L. 104-193);

(b) For release to the Social Security Administration for the purpose of verifying Social Security numbers in connection with the operation of the FPLS; and

(c) For release to the U.S. Department of the Treasury (Treasury) for the purpose of payroll, savings bonds, and other deductions; administering the Earned Income Tax Credit Program (Section 32, Internal Revenue Code of 1986); and verifying a claim with respect to employment on a tax return, as required by the Personal Responsibility and Work Opportunity Reconciliation Act of 1996 (Pub. L. 104-193).

5. A record may be disclosed as a routine use in the course of presenting evidence to a court, magistrate, or administrative tribunal of appropriate jurisdiction, and such disclosure may include disclosures to opposing counsel in the course of settlement negotiations.

6. Information from any system of records may be used as a data source for management information, for the production of summary descriptive statistics and analytical studies in support of the function for which the records are collected and maintained, or for related personnel management functions or manpower studies. Information may also be disclosed to respond to general requests for statistical information (without personal identification of individuals) under the Freedom of Information Act.

7. A record may be disclosed as a routine use to a contractor, expert, or consultant of the Endowment (or an office within the Endowment) when the purpose of the release is to perform a survey, audit, or other review of the Endowment's procedures and operations.

8. A record from any system of records may be disclosed as a routine use to the National Archives and Records Administration in records management inspections conducted under authority of 44 U.S.C. 2904 and 2906.

9. A record may be disclosed to a contractor, grantee, or other recipient of Federal funds when the record to be released reflects serious inadequacies with the recipient's personnel, and disclosure of the record is for the purpose of permitting the recipient to effect corrective action in the government's best interests.

10. A record may be disclosed to a contractor, grantee, or other recipient of Federal funds when the recipient has incurred an indebtedness to the government through its receipt of government funds, and release of the record is for the purpose of allowing the debtor to effect a collection against a third party.

11. Information in a system of records may be disclosed as a routine use to the Treasury; other Federal agencies; “consumer reporting agencies” (as defined in the Fair Credit Reporting Act, 15 U.S.C. 1681a(f), or the Federal Claims Collection Act of 1966, 31 U.S.C. 3701(a)(3)); or private collection contractors for the purpose of collecting a debt owed to the Federal government as provided in the regulations promulgated by the Endowment and published at 45 CFR 1150.

Table of Contents

This document gives notice that the following Endowment systems of records are in effect:

NEA-1 Panelists, Automated Panel Bank System (APBS).

NEA-2 Panelists, Paper Files.

NEA-3 National Council on the Arts (Council).

NEA-4 Grants, Grants Management System (GMS).

NEA-5 Grants, Paper Files.

NEA-6 Contracts and Cooperative Agreements.

NEA-7 Payroll/Personnel System.

NEA-8 Government Purchasing Card Holders

NEA-9 Financial Management Information System (FMIS).

NEA-10 Finance, Subsidiary Tracking Systems.

NEA-11 Finance, Paper Files.

NEA-12 Equal Employment Opportunity Complaint Case Files.

NEA-13 Civil Rights Complaint Case Files.

NEA-14 Office of the Inspector General Investigative Files.

NEA-1

SYSTEM NAME:

Panelists, Automated Panel Bank System (APBS).

SYSTEM LOCATION:

Information Management Division; 1100 Pennsylvania Avenue, NW; Washington, DC 20506.

CATEGORIES OF INDIVIDUALS COVERED BY THE SYSTEM:

Individuals whom the Endowment may ask or has asked to serve on application review panels.

CATEGORIES OF RECORDS IN THE SYSTEM:

Name, address, telephone number, Social Security number, and other data concerning potential and actual panelists, including information about areas of artistic expertise and prior panel service.

AUTHORITY FOR MAINTENANCE OF THE SYSTEM:

National Foundation on the Arts and the Humanities Act of 1965, as amended (20 U.S.C. 951 et seq.)

PURPOSE(S):

To provide a central repository for information about art experts who could be or have been called upon to serve on application review panels and make recommendations on grant awards.

ROUTINE USES OF RECORDS MAINTAINED IN THE SYSTEM, INCLUDING CATEGORIES OF USERS AND THE PURPOSES OF SUCH USES:

Data in this system is used for identification of panelists and their activities in this capacity. See also the list of General Routine Uses contained in the Preliminary Statement.

POLICIES AND PRACTICES FOR STORING, RETRIEVING, ACCESSING, RETAINING, AND DISPOSING OF RECORDS IN THE SYSTEM:

STORAGE:

Records in this system are maintained in an electronic database.

RETRIEVABILITY:

Records in this system are retrieved by name or Social Security number.

SAFEGUARDS:

This system is maintained in a locked computer room that can be accessed only by authorized employees of the Endowment or the National Endowment for the Humanities. Access to records in this system is further controlled by password, with different levels of modification rights assigned to individuals and offices at the Endowment based on their specific job functions.

RETENTION AND DISPOSAL:

Records in this system are maintained and updated on a continuing basis, as new information is received by the Office of Guidelines and Panel Operations. Endowment staff will periodically request updated information from individuals who are registered in the APBS. Endowment staff will also periodically purge the APBS of records pertaining to individuals who have been in the APBS for three to five years, but who have not served on a panel or had their records updated. Records will be removed only with the concurrence of the appropriate discipline directors.

SYSTEM MANAGER(S) AND ADDRESS:

Director of Guidelines and Panel Operations and/or Director of Information Management; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees and other individuals nominating potential panelists.

EXEMPTIONS CLAIMED FOR THE SYSTEM:

None.

NEA-2

SYSTEM NAME:

Panelists, Paper Files.

SYSTEM LOCATION:

1100 Pennsylvania Avenue, NW; Washington, DC 20506.

CATEGORIES OF INDIVIDUALS COVERED BY THE SYSTEM:

Individuals whom the Endowment may ask or has asked to serve on application review panels.

CATEGORIES OF RECORDS IN THE SYSTEM:

Additional information about potential and actual panelists. This system includes materials such as resumes, panelist profile forms, and contracts concerning participation on panels.

AUTHORITY FOR MAINTENANCE OF THE SYSTEM:

National Foundation on the Arts and the Humanities Act of 1965, as amended (20 U.S.C. 951 et seq.)

PURPOSE(S):

To supplement the APBS with information well suited for maintenance in hard copy form.

ROUTINE USES OF RECORDS MAINTAINED IN THE SYSTEM, INCLUDING CATEGORIES OF USERS AND THE PURPOSES OF SUCH USES:

Data in this system is used for identification of panelists and their activities in this capacity. See also the list of General Routine Uses contained in the Preliminary Statement.

POLICIES AND PRACTICES FOR STORING, RETRIEVING, ACCESSING, RETAINING, AND DISPOSING OF RECORDS IN THE SYSTEM:

STORAGE:

Records in this system are maintained in filing cabinets.

RETRIEVABILITY:

Records in this system are retrieved by name.

SAFEGUARDS:

Rooms containing the records in this system are kept locked during non-working hours.

RETENTION AND DISPOSAL:

The Office of Guidelines and Panel Operations maintains paper files that grow as individuals, or discipline directors who are proposing individuals for service on panels, submit resumes. Resumes and profile forms are removed from these files only when they are replaced by more recent information or when individuals are purged from the APBS, as described above. Discipline offices may also maintain paper files about individuals who have served on panels for their divisions. These files may include panelist contracts, copies of which are forwarded to the Endowment's Finance office. Each office destroys its panelist contracts after a set interval.

SYSTEM MANAGER(S) AND ADDRESS:

Coordinator of Panel Operations and/or Director of Finance/CFO; National Endowment for the Arts; 1100 Pennsylvania Avenue, NW., Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees and other individuals nominating potential panelists.

EXEMPTIONS CLAIMED FOR THE SYSTEM:

None.

NEA-3

SYSTEM NAME:

National Council on the Arts (Council).

SYSTEM LOCATION:

Office of Council Operations; 1100 Pennsylvania Avenue, NW., Washington, DC 20506.

CATEGORIES OF INDIVIDUALS COVERED BY THE SYSTEM:

Past and present members of the National Council on the Arts.

CATEGORIES OF RECORDS IN THE SYSTEM:

Name, address, telephone number, Social Security number, and other information concerning past and present members of the Council, such as press clippings and correspondence.

AUTHORITY FOR MAINTENANCE OF THE SYSTEM:

National Foundation on the Arts and the Humanities Act of 1965, as amended (20 U.S.C. 951 et seq.).

PURPOSE(S):

To provide a central repository for information about past and present members of the Council.

ROUTINE USES OF RECORDS MAINTAINED IN THE SYSTEM, INCLUDING CATEGORIES OF USERS AND THE PURPOSES OF SUCH USES:

Data in this system is used for identification of members of the Council and their activities in this capacity. See also the list of General Routine Uses contained in the Preliminary Statement.

POLICIES AND PRACTICES FOR STORING, RETRIEVING, ACCESSING, RETAINING, AND DISPOSING OF RECORDS IN THE SYSTEM:

STORAGE:

Records in this system are maintained in file cabinets.

RETRIEVABILITY:

Records in this system are retrieved by name.

SAFEGUARDS:

Rooms containing the records in this system are kept locked during non-working hours.

RETENTION AND DISPOSAL:

Records in this system are maintained on an indefinite basis for reference purposes.

SYSTEM MANAGER(S) AND ADDRESS:

Coordinator of Council Operations; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees involved with the activities of the Council.

EXEMPTIONS CLAIMED FOR THE SYSTEM:

None.

NEA-4

SYSTEM NAME:

Grants, Grants Management System (GMS).

SYSTEM LOCATION:

Information Management Division; 1100 Pennsylvania Avenue, NW; Washington, DC 20506.

CATEGORIES OF INDIVIDUALS COVERED BY THE SYSTEM:

Individuals who have applied to the Endowment for financial assistance in the form of grants.

CATEGORIES OF RECORDS IN THE SYSTEM:

Name, address, telephone number, date of birth, Social Security number, identification numbers assigned by the Endowment, National Standard and agency-established codes, and grant action dates. Financial and banking information is not maintained in the GMS.

AUTHORITY FOR MAINTENANCE OF THE SYSTEM:

National Foundation on the Arts and the Humanities Act of 1965, as amended (20 U.S.C. 951 et seq).

PURPOSE(S):

To provide a central repository for information about grant applicants, recipients, and awards.

ROUTINE USES OF RECORDS MAINTAINED IN THE SYSTEM, INCLUDING CATEGORIES OF USERS AND THE PURPOSES OF SUCH USES:

Data in this system may be used for general administration of the grant review and award process, statistical research, Congressional oversight, and analysis of trends. See also the list of General Routine Uses contained in the Preliminary Statement.

POLICIES AND PRACTICES FOR STORING, RETRIEVING, ACCESSING, RETAINING, AND DISPOSING OF RECORDS IN THE SYSTEM:

STORAGE:

Records in this system are maintained in an electronic database.

RETRIEVABILITY:

Records in this system are retrieved by name, application number, grant number, or constituent identification number.

SAFEGUARDS:

This system is maintained in a locked computer room that can be accessed only by authorized employees of the Endowment and the National Endowment for the Humanities. Access to records in this system is further controlled by password, with different levels of modification rights assigned to individuals and offices at the Endowment based on their specific job functions.

RETENTION AND DISPOSAL:

Records in this system are maintained on an indefinite basis for reference purposes.

SYSTEM MANAGER(S) AND ADDRESS:

Director of Grants and Contracts and/or Director of Information Management; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees involved in the administration of grants.

EXEMPTIONS CLAIMED FOR THE SYSTEM:

None.

NEA-5

SYSTEM NAME:

Grants, Paper Files.

SYSTEM LOCATION:

1100 Pennsylvania Avenue, NW; Washington, DC 20506.

CATEGORIES OF INDIVIDUALS COVERED BY THE SYSTEM:

Individuals who have applied to the Endowment for financial assistance in the form of grants.

CATEGORIES OF RECORDS IN THE SYSTEM:

Additional information concerning Endowment decisions to award grants, disburse funds, and close out grants. Materials include grant applications, samples of work, award notification letters and any approved amendments, payment requests, correspondence, and final reports.

AUTHORITY FOR MAINTENANCE OF THE SYSTEM:

National Foundation on the Arts and the Humanities Act of 1965, as amended (20 U.S.C. 951 et seq.)

PURPOSE(S):

To supplement the GMS with information well suited for maintenance in hard copy form.

ROUTINE USES OF RECORDS MAINTAINED IN THE SYSTEM, INCLUDING CATEGORIES OF USERS AND THE PURPOSES OF SUCH USES:

Data in this system may be used for general administration of the grant review and award process, statistical research, Congressional oversight, and analysis of trends. See also the list of General Routine Uses contained in the Preliminary Statement.

POLICIES AND PRACTICES FOR STORING, RETRIEVING, ACCESSING, RETAINING, AND DISPOSING OF RECORDS IN THE SYSTEM:

STORAGE:

Records in this system are maintained in file cabinets.

RETRIEVABILITY:

Records in this system are retrieved by name, application number, or grant number.

SAFEGUARDS:

Rooms containing records in this system are kept locked during non-working hours.

RETENTION AND DISPOSAL:

The Grants and Contracts Office maintains grants paper files, which are retired and destroyed after seven years. Discipline offices also maintain paper files about grants in their divisions. When the final descriptive and financial status reports are received and accepted, the discipline office files are retired first to the Federal Records Center, and then to the National Archives and Records Administration.

SYSTEM MANAGER(S) AND ADDRESS:

Director of Grants and Contracts and/or Director of Administrative Services; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees involved in the administration of grants.

EXEMPTIONS CLAIMED FOR THE SYSTEM:

None.

NEA-6

SYSTEM NAME:

Contracts and Cooperative Agreements.

SYSTEM LOCATION:

1100 Pennsylvania Avenue, NW; Washington, DC 20506.

CATEGORIES OF INDIVIDUALS COVERED BY THE SYSTEM:

Individuals who have entered administrative contracts or cooperative agreements with the Endowment.

CATEGORIES OF RECORDS IN THE SYSTEM:

Relevant information concerning the contract or cooperative agreement, such as copies of the signed document and requests for payment/invoices.

AUTHORITY FOR MAINTENANCE OF THE SYSTEM:

National Foundation on the Arts and the Humanities Act of 1965, as amended (20 U.S.C. 951 et seq).

PURPOSE(S):

To maintain a record of contracts and cooperative agreements entered by the Endowment.

ROUTINE USES OF RECORDS MAINTAINED IN THE SYSTEM, INCLUDING CATEGORIES OF USERS AND THE PURPOSES OF SUCH USES:

Data in this system may be used for General Accounting Office audits and Congressional oversight. See also the list of General Routine Uses contained in the Preliminary Statement.

POLICIES AND PRACTICES FOR STORING, RETRIEVING, ACCESSING, RETAINING, AND DISPOSING OF RECORDS IN THE SYSTEM:

STORAGE:

The Grants and Contracts Office maintains records in this system in an electronic database, word processing files, and file cabinets. The Finance office also maintains paper files in this system in file cabinets.

RETRIEVABILITY:

Database files are retrieved by name or by contract or cooperative agreement number. Word processing files are retrieved by contract or cooperative agreement number. Paper files maintained by the Grants and Contracts Office are retrieved by name. Paper files maintained by the Finance Office are retrieved by name, Social Security number, vendor number, or cooperative agreement number.

SAFEGUARDS:

Database and word processing files are protected by a password available to Grants and Contracts Office staff. Rooms containing paper files are kept locked during non-working hours.

RETENTION AND DISPOSAL:

Database and word processing files are maintained on an indefinite basis for reference purposes. Paper files maintained by the Grants and Contracts Office are shipped to the National Archives and Records Administration after the contract or cooperative agreement is physically completed, and they are destroyed six years and three months later. Paper files maintained by the Finance Office are also maintained for six years and three months, and then destroyed.

SYSTEM MANAGER(S) AND ADDRESS:

Director of Grants and Contracts and/or Director of Finance/CFO; National Endowment for the Arts; 1100 Pennsylvania Avenue, NW., Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees involved in contract development, administration, and execution.

EXEMPTIONS CLAIMED FOR THE SYSTEM:

None.

NEA-7

SYSTEM NAME:

Payroll/Personnel System.

SYSTEM LOCATION:

1100 Pennsylvania Avenue, NW., Washington, DC 20506.

CATEGORIES OF INDIVIDUALS COVERED BY THE SYSTEM:

Employees of the Endowment.

CATEGORIES OF RECORDS IN THE SYSTEM:

Payroll and personnel information, such as time and attendance data, statements of earnings and leave, training data, wage and tax statements, and payroll and personnel transactions. This system includes data that is also maintained in the Endowment's official personnel folders, which are managed in accordance with Office of Personnel Management (OPM) regulations. The OPM has given notice of its system of records covering official personnel folders in OPM/GOVT-1.

AUTHORITY FOR MAINTENANCE OF THE SYSTEM:

National Foundation on the Arts and the Humanities Act of 1965, as amended (20 U.S.C. 951 et seq.); Federal Personnel Manual and Treasury Fiscal Requirements Manual.

PURPOSE(S):

To document the Endowment's personnel processes and to calculate and process payroll.

ROUTINE USES OF RECORDS MAINTAINED IN THE SYSTEM, INCLUDING CATEGORIES OF USERS AND THE PURPOSES OF SUCH USES:

Data in this system may be transmitted to the U.S. Departments of Agriculture and Treasury, and employee-designated financial institutions to effect issuance of paychecks to employees and distributions of pay according to employee directions for authorized purposes. Data in this system may also be used to prepare payroll, meet government record keeping and reporting requirements, and retrieve and apply payroll and personnel information as required for agency needs. See also the list of General Routine Uses contained in the Preliminary Statement.

POLICIES AND PRACTICES FOR STORING, RETRIEVING, ACCESSING, RETAINING, AND DISPOSING OF RECORDS IN THE SYSTEM:

STORAGE:

Electronic records in this system are maintained off-site by the Department of Agriculture's National Finance Center (NFC). Paper records generated through the NFC are maintained in file cabinets by the Offices of Human Resources, Finance, and Budget after arriving at the Endowment. Discipline offices may also use file cabinets to maintain paper records concerning performance reviews and other personnel actions in their divisions.

RETRIEVABILITY:

Records in this system are retrieved by name, Social Security number, or date of birth.

SAFEGUARDS:

Access to the electronic records in this system is controlled by password on the limited number of Endowment computers that can be used to draw information from the NFC. File cabinets containing the paper records in this system are either kept locked during non-business hours, or are file cabinets are located in rooms which are kept locked during non-business hours.

RETENTION AND DISPOSAL:

The Office of Human Resources maintains paper records in this system in accordance with the General Services Administration's General Records Schedule 2. Division offices may maintain paper records concerning performance reviews and other personnel actions in their divisions for the duration of an individual's employment with the Endowment. The Finance Office maintains its records for six years and three months before destroying them.

SYSTEM MANAGER(S) AND ADDRESS:

Director of Human Resources; National Endowment for the Arts; 1100 Pennsylvania Avenue, NW., Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees involved in the administration of personnel and payroll processes.

EXEMPTIONS CLAIMED FOR THE SYSTEM:

None.

NEA-8

SYSTEM NAME:

Government Purchasing Card Holders

SYSTEM LOCATION:

1100 Pennsylvania Avenue, NW, Washington, DC 20506.

CATEGORIES OF INDIVIDUALS COVERED BY THE SYSTEM:

Endowment employees who have been issued credit cards to make official purchases.

CATEGORIES OF RECORDS IN THE SYSTEM:

Name, office, account number, and spending limits.

AUTHORITY FOR MAINTENANCE OF THE SYSTEM:

National Foundation on the Arts and the Humanities Act of 1965, as amended (20 U.S.C. 951 et seq.).

PURPOSE(S):

To maintain a record of Endowment employees authorized to use government purchasing cards.

ROUTINE USES OF RECORDS MAINTAINED IN THE SYSTEM, INCLUDING CATEGORIES OF USERS AND THE PURPOSES OF SUCH USES:

See the list of General Routine Uses contained in the Preliminary Statement.

POLICIES AND PRACTICES FOR STORING, RETRIEVING, ACCESSING, RETAINING, AND DISPOSING OF RECORDS IN THE SYSTEM:

STORAGE:

The Grants and Contracts Office maintains records in this system in an electronic database. The Finance Office maintains additional paper records in this system in file cabinets.

RETRIEVABILITY:

Electronic records in this system are retrieved by name, office, account number, or spending limit. Paper records in this system are retrieved by name or social security number.

SAFEGUARDS:

Access to electronic records in this system is controlled by a password, which is available only to the Coordinator of Contracts and Cooperative Agreements. Rooms containing paper records in this system are kept locked during non-working hours.

RETENTION AND DISPOSAL:

Records in this system are maintained on an indefinite basis for reference purposes.

SYSTEM MANAGER(S) AND ADDRESS:

Director of Grants and Contracts and/or Director of Finance/CFO; National Endowment for the Arts; 1100 Pennsylvania Avenue, NW, Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, as well as from Endowment employees involved in administration and oversight of government purchasing cards.

EXEMPTIONS CLAIMED FOR THE SYSTEM:

None.

NEA-9

SYSTEM NAME:

Financial Management Information System (FMIS).

SYSTEM LOCATION:

Information Management Division; 1100 Pennsylvania Avenue, NW, Washington, DC 20506.

CATEGORIES OF INDIVIDUALS COVERED BY THE SYSTEM:

Grant recipients, Endowment employees, vendors, and other individuals involved in financial transactions with the Endowment.

CATEGORIES OF RECORDS IN THE SYSTEM:

Name, address, Social Security number, object class, category code, discipline code, office code, sub-object class code, bank information, Common Accounting Number, Council meeting number, document number, schedule number, tax/employee identification number, vendor number, funding fiscal year, transaction processing dates, and fund type.

AUTHORITY FOR MAINTENANCE OF THE SYSTEM:

National Foundation on the Arts and the Humanities Act of 1965, as amended (20 U.S.C. 951 et seq.).

PURPOSE(S):

To promote effective fund control and financial management; to provide a central repository for information about the Endowment's financial transactions; and to enable the Budget and Finance offices to share a common system for entering allocation, commitment, and obligation information.

ROUTINE USES OF RECORDS MAINTAINED IN THE SYSTEM, INCLUDING CATEGORIES OF USERS AND THE PURPOSES OF SUCH USES:

See the list of General Routine Uses contained in the Preliminary Statement. In addition, this system interfaces with the Grants Management System (GMS) (see NEA-4) and extracts data from a magnetic tape containing Payroll/Personnel information generated by the Department of Agriculture's National Finance Center (NFC).

POLICIES AND PRACTICES FOR STORING, RETRIEVING, ACCESSING, RETAINING, AND DISPOSING OF RECORDS IN THE SYSTEM:

STORAGE:

Records in this system are maintained in computer processible storage media. Paper records are maintained in file cabinets.

RETRIEVABILITY:

Records in this system are retrieved by name, Social Security number, tax/employee identification number, vendor number, document number, or coding elements.

SAFEGUARDS:

This system is maintained in a locked computer room that can be accessed only by authorized employees of the Endowment and the National Endowment for the Humanities. Access to records in this system is further controlled by password, available to the Budget, Finance, and Information Management Offices. Different levels of modification rights are assigned to these three offices and Endowment employees therein, based on their specific job functions. Rooms containing paper files are kept locked during non-working hours.

RETENTION AND DISPOSAL:

Records in this system are maintained for six years and three months.

SYSTEM MANAGER(S) AND ADDRESS:

Director of Finance/CFO; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system and from Endowment employees who are involved with the Endowment's fund control and financial management.

EXEMPTIONS CLAIMED FOR THE SYSTEM:

None.

NEA-10

SYSTEM NAME:

Finance, Subsidiary Tracking Systems.

SYSTEM LOCATION:

Finance Office; 1100 Pennsylvania Avenue, NW; Washington, DC 20506.

CATEGORIES OF INDIVIDUALS COVERED BY THE SYSTEM:

Grant recipients, Endowment employees, vendors, and other individuals involved in financial transactions with the Endowment.

CATEGORIES OF RECORDS IN THE SYSTEM:

(1) The Electronic Certification System (ECS) Files contain payment information for processing all payments.

(2) The Metro Fare Card Program Files contain data concerning Endowment employees' applications for mass transit fare cards, and subsequent transactions.

AUTHORITY FOR MAINTENANCE OF THE SYSTEM:

National Foundation on the Arts and the Humanities Act of 1965, as amended (20 U.S.C. 951 et seq.).

PURPOSE(S):

To supplement the FMIS with electronic records that cannot be maintained within that system.

ROUTINE USES OF RECORDS MAINTAINED IN THE SYSTEM, INCLUDING CATEGORIES OF USERS AND THE PURPOSES OF SUCH USES:

See the list of General Routine Uses contained in the Preliminary Statement.

POLICIES AND PRACTICES FOR STORING, RETRIEVING, ACCESSING, RETAINING, AND DISPOSING OF RECORDS IN THE SYSTEM:

STORAGE:

Records in this system are maintained in electronic databases.

RETRIEVABILITY:

(1) Records in the Electronic Certification System (ECS) are retrieved by name, Social Security number, or vendor number.

(2) Records in the Metro Fare Card Program Files are retrieved by name or Social Security number.

SAFEGUARDS:

Access to records in this system is controlled by password.

RETENTION AND DISPOSAL:

Records in this system are maintained on an indefinite basis for reference purposes.

SYSTEM MANAGER(S) AND ADDRESS:

Director of Finance/CFO; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system and from Endowment employees who are involved with the management of these subsidiary tracking systems.

EXEMPTIONS CLAIMED FOR THE SYSTEM:

None.

NEA-11

SYSTEM NAME:

Finance, Paper Files.

SYSTEM LOCATION:

Finance Office; 1100 Pennsylvania Avenue, NW; Washington, DC 20506.

CATEGORIES OF INDIVIDUALS COVERED BY THE SYSTEM:

Grant recipients, Endowment employees, vendors, and other individuals involved in financial transactions with the Endowment.

CATEGORIES OF RECORDS IN THE SYSTEM:

(1) The Accounts Receivables Files contain data concerning the type and amount of debts owed to the Endowment, as well as debt collection efforts. These files contain, as appropriate, the name and address of the debtor; taxpayer's identification number; basis of the debt; date a debt became delinquent; amounts accrued for interest, penalties, administrative costs, and payment on account; date the debt was referred to the Treasury for offset; and basis for termination of debt. These files also include copies of bills for collection; invoices; correspondence between the Endowment and the debtor relating to the debt; and documents required to refer accounts to the Treasury, other Federal agencies, or private collection contractor for debt collection.

(2) The Donations to Gift Fund Files contain copies of checks and letters submitted by donors.

(3) The 1099 Files contain data concerning expenses over $600 per calendar year that are reported to the Internal Revenue Service.

(4) The Travel Credit Cards Files contain applications for credit cards.

(5) The Travel Authorizations Files contain employee data for travel duty.

(6) The Travel Vouchers Files contain employee expense data from travel duty.

(7) The Imprest Fund Files contain data concerning local taxi and similar reimbursements to Endowment employees for authorized Endowment expenses.

(8) The Star Awards Files contain data concerning awards for Endowment employees.

AUTHORITY FOR MAINTENANCE OF THE SYSTEM:

National Foundation on the Arts and the Humanities Act of 1965, as amended (20 U.S.C. 951 et seq.). In addition, the maintenance of debt collection records in the Accounts Receivables Files is authorized by the Debt Collection Act of 1982, Pub. L. 97-365; the Cash Management Improvement Act Amendments of 1992; and the Debt Collection Improvement Act of 1996 (Pub. L. 104-134).

PURPOSE(S):

To supplement the FMIS with information well suited for maintenance in hard copy form.

ROUTINE USES OF RECORDS MAINTAINED IN THE SYSTEM, INCLUDING CATEGORIES OF USERS AND THE PURPOSES OF SUCH USES:

See the list of General Routine Uses contained in the Preliminary Statement.

POLICIES AND PRACTICES FOR STORING, RETRIEVING, ACCESSING, RETAINING, AND DISPOSING OF RECORDS IN THE SYSTEM:

STORAGE:

Records in this system are maintained in file cabinets.

RETRIEVABILITY:

Records in this system are retrieved by name; Social Security number; taxpayer identification number; or contract number of the employee, contractor, or grantee.

SAFEGUARDS:

Rooms containing the records in this system are kept locked during non-working hours.

RETENTION AND DISPOSAL:

The retention and disposal of debt collection records in the Accounts Receivables Files are covered by the General Services Administration's General Records Schedule 6. Other records in this system are retained on site or in storage for six years and three months, and then destroyed.

SYSTEM MANAGER(S) AND ADDRESS:

Director of Finance/CFO; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system, Endowment employees, creditor agencies, collection agencies, credit bureaus, Federal employing agencies, and other Federal agencies furnishing identifying information.

EXEMPTIONS CLAIMED FOR THE SYSTEM:

None.

NEA-12

SYSTEM NAME:

Equal Employment Opportunity Complaint Case Files.

SYSTEM LOCATION:

Civil Rights Office; 1100 Pennsylvania Avenue, NW; Washington, DC 20506.

CATEGORIES OF INDIVIDUALS COVERED BY THE SYSTEM:

Endowment employees and applicants for employment at the Endowment who have filed formal complaints of discrimination against the Endowment.

CATEGORIES OF RECORDS IN THE SYSTEM:

Relevant information concerning the complaint of discrimination, such as correspondence and documentation concerning the filing of the complaint and stages leading to its disposition.

AUTHORITY FOR MAINTENANCE OF THE SYSTEM:

National Foundation on the Arts and the Humanities Act of 1965, as amended (20 U.S.C. 951 et seq.).

PURPOSE(S):

To enable the Endowment to investigate and adjudicate internal complaints of discrimination.

ROUTINE USES OF RECORDS MAINTAINED IN THE SYSTEM, INCLUDING CATEGORIES OF USERS AND THE PURPOSES OF SUCH USES:

Data in this system may be disclosed as necessary to enforce or implement the statute, rule, regulation, or order under which the charge of discrimination has been filed. This authorization includes disclosures of data to a Federal, state, or local agency charged with the responsibility of investigating, enforcing, or implementing such a statute, rule, regulation, or order. See also the list of General Routine Uses contained in the Preliminary Statement.

POLICIES AND PRACTICES FOR STORING, RETRIEVING, ACCESSING, RETAINING, AND DISPOSING OF RECORDS IN THE SYSTEM:

STORAGE:

Records in this system are maintained on computer diskettes and in file cabinets.

RETRIEVABILITY:

Records in this system are retrieved by name.

SAFEGUARDS:

Diskettes are kept in a locked file. Paper files are kept in a locked file cabinet.

RETENTION AND DISPOSAL:

Complaint files are destroyed four years after resolution of the case.

SYSTEM MANAGER(S) AND ADDRESS:

Director of Civil Rights; National Endowment for the Arts; 1100 Pennsylvania Avenue, NW; Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system and from Endowment employees who are involved with the claim or proceeding.

EXEMPTIONS CLAIMED FOR THE SYSTEM:

None.

NEA-13

SYSTEM NAME:

Civil Rights Complaint Case Files.

SYSTEM LOCATION:

Civil Rights Office, 1100 Pennsylvania Avenue, NW., Washington, DC 20506.

CATEGORIES OF INDIVIDUALS COVERED BY THE SYSTEM:

Individuals who have filed formal complaints of discrimination against the Endowment. However, this system does not include complaints made by either Endowment employees or applicants for employment at the Endowment, which are covered as described above.

CATEGORIES OF RECORDS IN THE SYSTEM:

Relevant information concerning the complaint of discrimination, including correspondence and documentation concerning the filing of the complaint and stages leading to its disposition.

AUTHORITY FOR MAINTENANCE OF THE SYSTEM:

National Foundation on the Arts and the Humanities Act of 1965, as amended (20 U.S.C. 951 et seq.).

PURPOSE(S):

To enable the Endowment to investigate and adjudicate external complaints of discrimination.

ROUTINE USES OF RECORDS MAINTAINED IN THE SYSTEM, INCLUDING CATEGORIES OF USERS AND THE PURPOSES OF SUCH USES:

Data in this system may be disclosed as necessary to enforce or implement the statute, rule, regulation, or order under which the charge of discrimination has been filed. This authorization includes disclosures of data to a Federal, state, or local agency charged with the responsibility of investigating, enforcing, or implementing such a statute, rule, regulation, or order. See also the list of General Routine Uses contained in the Preliminary Statement.

POLICIES AND PRACTICES FOR STORING, RETRIEVING, ACCESSING, RETAINING, AND DISPOSING OF RECORDS IN THE SYSTEM:

STORAGE:

Records in this system are maintained on computer diskettes and in file cabinets.

RETRIEVABILITY:

Records in this system are retrieved by name or a control number assigned to each external complaint of discrimination.

SAFEGUARDS:

Diskettes are kept in a locked file. Paper files are kept in a locked file cabinet.

RETENTION AND DISPOSAL:

Complaint files are destroyed four years after resolution of the case.

SYSTEM MANAGER(S) AND ADDRESS:

Director of Civil Rights, National Endowment for the Arts, 1100 Pennsylvania Avenue, NW, Washington, DC 20506.

NOTIFICATION PROCEDURE:

See 45 CFR part 1159.

RECORD ACCESS PROCEDURES:

See 45 CFR part 1159.

CONTESTING RECORD PROCEDURES:

See 45 CFR part 1159.

RECORD SOURCE CATEGORIES:

Data in this system is obtained from individuals covered by the system and from Endowment employees who are involved with the claim or proceeding.

EXEMPTIONS CLAIMED FOR THE SYSTEM:

None.

NEA-14

SYSTEM NAME:

Office of the Inspector General Investigative Files.

SYSTEM LOCATION:

Office of the Inspector General, 1100 Pennsylvania Avenue, NW., Washington, DC 20506.

CATEGORIES OF INDIVIDUALS COVERED BY THE SYSTEM:

Individuals and entities who are or have been the subject of investigations by the Office of the Inspector General, or who provide information in connection with such investigations. These individuals include, but are not limited to, former and present Endowment employees; former and present Endowment grant recipients; former and present contractors and subcontractors, and their employees; former and present consultants; and other individuals and entities that had, have, or are seeking to obtain business relationships with the Endowment.

CATEGORIES OF RECORDS IN THE SYSTEM:

Correspondence relevant to the investigation; working papers of the staff, investigative notes, internal staff memoranda, and other documents and records relating to the investigation; information about criminal, civil, or administrative referrals; information provided by subjects of the investigation, individuals with whom the subjects are associated, complainants, or witnesses; information provided by Federal, State, or local governmental investigative or law enforcement agencies, or other organizations; copies of subpoenas issues during the investigation; and opening reports, progress reports, and closing reports, with recommendations for corrective action.

AUTHORITY FOR MAINTENANCE OF THE SYSTEM:

Inspector General Act of 1978, as amended (5 U.S.C. app. 3).

PURPOSE(S):

To maintain files of investigative and reporting activities carried out by the Office of the Inspector General.

ROUTINE USES OF RECORDS MAINTAINED IN THE SYSTEM, INCLUDING CATEGORIES OF USERS AND THE PURPOSES OF SUCH USES:

Data in this system may be disclosed to any source, either private or governmental, to the extent necessary to secure from such source information relevant to, and sought in furtherance of, a legitimate investigation or audit. Data in this system may also be disclosed to the Office of the Inspector General's or the Endowment's legal representative, including the U.S. Department of Justice and other outside legal counsel, when the Office of the Inspector General or the Endowment is a party in actual or anticipated litigation or has an interest in such litigation. See also the list of General Routine Uses contained in the Preliminary Statement.

POLICIES AND PRACTICES FOR STORING, RETRIEVING, ACCESSING, RETAINING, AND DISPOSING OF RECORDS IN THE SYSTEM:

STORAGE:

Records in this system are maintained in file cabinets.

RETRIEVABILITY:

Records in this system are retrieved by name, report number, or chronological ordering.

SAFEGUARDS:

Work papers for allegation and other investigative reviews conducted by or for the Office of the Inspector General are kept in a locked file cabinet. All records in this system are kept in rooms that are locked during non-working hours.

RETENTION AND DISPOSAL:

Records in this system are maintained on-site until eligible for destruction. Work papers used in evaluating grantees' audit reports and financial statements are destroyed on a three-year cycle. Work papers and correspondence prepared and/or obtained during the clearance process of audit recommendations are destroyed on a six-year cycle from the date that the recommendations are cleared. All other records in this system are destroyed on a seven-year cycle.

SYSTEM MANAGER(S) AND ADDRESS:

Inspector General, National Endowment for the Arts, 1100 Pennsylvania Avenue, NW., Washington, DC 20506.

NOTIFICATION PROCEDURE:

See 45 CFR part 1159.

RECORD ACCESS PROCEDURES:

The major part of this system is exempted from this requirement pursuant to 5 U.S.C. 552a(j)(2) or (k)(2). To the extent that this system is not subject to exemption, it is subject to access. A determination as to exemption shall be made at the time a request for access is received. Access requests must be sent to the Office of the General Counsel in accordance with the procedures published at 45 CFR part 1159.

CONTESTING RECORD PROCEDURES:

The major part of this system is exempted from this requirement pursuant to 5 U.S.C. 552a(j)(2) or (k)(2). To the extent that this system is not subject to exemption, it is subject to access and contest. A determination as to exemption shall be made at the time a request for access is received. Access requests must be sent to the Office of the General Counsel in accordance with the procedures published at 45 CFR part 1159.

RECORD SOURCE CATEGORIES:

Data in this system is obtained from individuals who are covered by the system, as well as from individuals with whom the subjects are associated; Federal, State, or local governmental investigative or law enforcement agencies; and other organizations.

EXEMPTIONS CLAIMED FOR THE SYSTEM:

This system is exempted from 5 U.S.C. 552a except subsections (b); (c)(1) and (2); (e)(4)(A) through (F); (e)(6), (7), (9), (10), and (11); and (i) under 552a(j)(2) to the extent that the system pertains to enforcement of criminal laws. This system is exempted from 5 U.S.C. 552a(c)(3); (d); (e)(1); (e)(4)(G), (H), and (I); and (f) under 5 U.S.C. 552a(k)(2) to the extent that the system consists of investigatory material compiled for law enforcement purposes, other than material within the scope of the exemption at 5 U.S.C. 552a(j)(2). These exemptions are contained in 45 CFR part 1159.

Dated: July 17, 2000.
Karen Elias,
Deputy General Counsel.

[FR Doc. 00-18680 Filed 7-27-00; 8:45 am]

BILLING CODE 7536-01-U